DEPARTMENT OF COMMERCE

[I.D. 110404F]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Fishermen's Contingency Fund.

Form Number(s): NOAA Forms 88-164 and 88-166.

OMB Approval Number: 0648-0082.

Type of Request: Regular submission.

Burden Hours: 1,008.

Number of Respondents: 100.

Average Hours Per Response: 10 hours for an application; 5 minutes for a report.

Needs and Uses: The Fishermen's Contingency Fund compensates U.S. commercial fishermen for loss of or damage to their fishing vessels or fishing gear, plus 50 percent of any gross economic loss, caused by oil and gas industry activities on the U.S. Outer Continental Shelf. In order to be compensated, fishermen must file a report and an application to NOAA.

Affected Public: Business or other for-profit organizations; and individuals or households.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: November 3, 2004.
Gwellnar Banks,
Management Analyst, Office of the Chief Information Officer.

[FR Doc. 04-25092 Filed 11-9-04; 8:45 am]

BILLING CODE 3510-22-S